DEPARTMENT OF STATE

[Delegation of Authority No. 338]

Delegation of the Functions and Authorities of the Under Secretary for Public Diplomacy and Public Affairs to the Assistant Secretary for Educational and Cultural Affairs

By virtue of the authority vested in the Secretary of State by the laws of the United States, including the Mutual Educational and Cultural Exchange Act of 1961, as amended (Fulbright-Hays Act), the United States Information and Educational Exchange Act of 1948, as amended, and the State Department Basic Authorities Act of 1956, as amended, and delegated to me by Delegation of Authority 245-1, dated February 13, 2009, I hereby delegate to the Assistant Secretary of State for Educational and Cultural Affairs, to the extent authorized by law, all authorities vested in the Under Secretary of State for Public Diplomacy and Public Affairs, including all authorities vested in the Secretary of State that have been or may be delegated or re-delegated to that Under Secretary.

Any authorities covered by this delegation may also be exercised by the Secretary of State, the Deputy Secretary, and the Deputy Secretary for Management and Resources. Nothing in this delegation of authority shall be deemed to supersede or revoke any existing delegation of authority, which shall remain in full force and effect during and after this delegation.

Any act or other authority related to this delegation of authority shall be deemed to be such act or other authority as amended from time to time.

This delegation of authority shall expire upon the appointment and entry upon duty of a subsequently-appointed individual to serve as Under Secretary of State for Public Diplomacy and Public Affairs.

This delegation of authority shall be published in the Federal Register.

Dated July 7, 2011.
Thomas R. Nides,
Deputy Secretary of State for Management and Resources.

[FR Doc. 2011-18449 Filed 7-20-11; 8:45 am]

BILLING CODE 4710-10-P